DEPARTMENT OF ENERGY

Federal Energy Regulatory Commission

[Docket No. AD20-17-000]

Impacts of COVID-19 on the Energy Industry; Supplemental Notice of Technical Conference

As announced in the Notice of Technical Conference issued in this proceeding on May 20, 2020, the Federal Energy Regulatory Commission (Commission) will convene a Commissioner-led technical conference in the above-referenced proceeding on Wednesday and Thursday, July 8-9, 2020, from approximately 9:00 a.m. to 5:00 p.m. Eastern time each day. The conference will be held electronically. The purpose of this conference is to consider the ongoing, serious impacts that the emergency conditions caused by COVID-19 are having on various segments of the United States' energy industry. The Commission will explore the potential longer-term impacts on the entities that it regulates in order to ensure the continued efficient functioning of energy markets, transmission of electricity, transportation of natural gas and oil, and reliable operation of energy infrastructure today and in the future, while also protecting consumers. The conference will serve as a public forum for the Commission and energy stakeholders to discuss a wide range of energy issues that the country faces going forward as it recovers from the emergency conditions created by, and the impacts of, COVID-19.

The Commission will issue a further supplemental notice with an agenda that includes a list of panelists for the technical conference. The conference will be open for the public to attend electronically. There is no fee for attendance. However, members of the public are encouraged to preregister online at: http://www.ferc.gov/whats-new/registration/07-07-20-form.asp. Information on this event will be posted on the Calendar of Events on the Commission's website, www.ferc.gov, prior to the event. The conference will be transcribed. Transcripts will be available for a fee from Ace Reporting (202-347-3700).

Commission conferences are accessible under section 508 of the Rehabilitation Act of 1973. For accessibility accommodations, please send an email to accessibility@ferc.gov or call toll free 1-866-208-3372 (voice) or 202-208-8659 (TTY), or send a fax to 202-208-2106 with the required accommodations.

For more information about this technical conference, please contact:

Aileen Roder (Technical Information), Office of Energy Policy and Innovation, (202) 502-6735, aileen.roder@ferc.gov.

Zeny Magos (Technical Information), Office of Energy Market Regulation, (202) 502-8244, zeny.magos@ferc.gov.

Sarah McKinley (Logistical Information), Office of External Affairs, (202) 502-8004, sarah.mckinley@ferc.gov.

Dated: June 5, 2020.
Kimberly D. Bose,
Secretary.

[FR Doc. 2020-12639 Filed 6-10-20; 8:45 am]

BILLING CODE 6717-01-P